DEPARTMENT OF COMMERCE

National Oceanic and Atmospheric Administration

50 CFR Part 600

[I.D. 072103A]

Magnuson-Stevens Act Provisions; General Provisions for Domestic Fisheries; Application for Exempted Fishing Permits (EFPs)

AGENCY: Department of Commerce, National Oceanic and Atmospheric Administration (NOAA), National Marine Fisheries Service (NMFS).

ACTION: Notification of a proposal for EFPs to conduct experimental fishing; request for comments.

SUMMARY: NMFS announces that the Administrator, Northeast Region, NMFS (Regional Administrator), has determined that an application for EFPs contains all of the required information and warrants further consideration. The Regional Administrator is considering the impacts of the activities to be authorized under the EFPs with respect to the Northeast (NE) Multispecies Fishery Management Plan (FMP). However, further review and consultation may be necessary before a final determination is made to issue EFPs. Therefore, NMFS announces that the Regional Administrator proposes to issue EFPs in response to an application submitted by the Groundfish Group Associated Fisheries of Maine (Associated Fisheries of Maine), in collaboration with Manomet Center for Conservation Sciences (Manomet). These EFPs would allow up to four vessels to fish for yellowtail flounder in NE multispecies year-round Closed Area II (CA II) during September and October 2003. The purpose of the study is to conduct supplementary sampling in relation to a currently ongoing experimental fishery for yellowtail flounder in CA II, which was approved by the Regional Administrator on September 10, 2002.

DATES: Comments on this action must be received at the appropriate address or fax number (see ADDRESSES) on or before August 12, 2003.

ADDRESSES: Written comments should be sent to Patricia A. Kurkul, Regional Administrator, NMFS, NE Regional Office, 1 Blackburn Drive, Gloucester, MA 01930. Mark the outside of the envelope “Comments on Yellowtail EFP Proposal.” Comments may also be sent via fax to (978) 281-9135. Comments will not be accepted if submitted via e-mail or the Internet.

Copies of the Draft Environmental Assessment (EA) are available from the NE Regional Office at the same address.

FOR FURTHER INFORMATION CONTACT: Allison Ferreira, Fishery Policy Analyst, phone: 978-281-9103, fax: 978-281-9135, email: allison.ferreira@noaa.gov

SUPPLEMENTARY INFORMATION:

Background

On September 10, 2002, in response to an EFP application submitted by Manomet and the Associated Fisheries of Maine, the Regional Administrator approved the issuance of 17 EFPs (12 vessels plus five alternate vessels) to conduct an experimental fishery for yellowtail flounder in CA II. The purpose of this experimental fishery is to collect observer-based data to determine whether seasonal access to portions of CA II for the purpose of harvesting Georges Bank (GB) yellowtail flounder is possible without significant bycatch and discard of other regulated NE multispecies, particularly cod and haddock. This information could then be used by the New England Fishery Management Council (Council) and NMFS to determine the feasibility of establishing a seasonal access program that would allow the harvest of GB yellowtail flounder in portions of CA II.

The study period proposed for the initial experimental fishery was July through December 2002. However, because the applicants were required to prepare an EA to assess the impacts of the proposed experimental fishery on the environment, the issuance of EFPs was delayed until September 2002. In order to accommodate the proposed study period, NMFS authorized the July and August 2002 portion of the study to take place during July and August 2003. Due to a change in the proposed study period, Manomet and the Associated Fisheries of Maine submitted an application for six EFPs (four vessels plus two alternate vessels) on June 20, 2003, to conduct additional sampling during September and October 2003. The objective of this additional sampling is to compare the survey data collected in September and October 2002 to the data collected in September and October 2003, in order to assess the similarity of data between the two calendar years. In addition, harsh weather conditions during October 2002 resulted in incomplete sampling of the survey area. Therefore, additional sampling of the survey area is being requested for October 2003.

The proposed supplemental experimental fishery would utilize up to four commercial vessels to complete four trips of 5 days in duration, for a total of 20 days-at-sea (DAS). Two trips would take place concurrently during September 2003, and two concurrent trips would take place during October 2003. The participating vessels would be exempt from NE multispecies DAS requirements, but would be prohibited from fishing in areas outside CA II during an experimental fishing trip.

The proposed supplemental experimental fishery would occur in the same area and follow the same scientific protocols established for the previously approved yellowtail experimental fishery in CA II (previously approved study). Therefore, the study would occur in the area south of 41°30′ N. lat. within CA II, participating vessels would use standard otter trawl gear having a 6.5-inch (16.5-cm) square mesh codend, and participating vessels would follow a pre-determined sampling design. In addition, the proposed supplemental experimental fishery would have 100-percent observer coverage provided by Manomet staff.

Participating vessels would be bound by the same permit conditions as the previously approved study. Bycatch of cod and haddock would be limited to 2,000 lb (907 kg) and 3,000 lb (1,361 kg) per DAS, respectively, and all fish landed would be required to meet minimum size requirements. In addition, due to concerns over skate bycatch, the applicants have agreed to identify and record all skates caught, by species, and return all skates caught to the sea immediately in order to minimize mortality. No skates would be retained for landing or sale.

The previously approved study is constrained to a yellowtail flounder total allowable catch (TAC) of 220 mt. This overall TAC would also apply to the proposed supplemental experimental fishery. According to the applicants and the preliminary data they have provided, only 17.1 mt of yellowtail flounder was harvested during the first 4 months of the previously approved study. Furthermore, the EFPs would contain a provision that the Regional Administrator has the authority to terminate the experimental fishery if the yellowtail flounder TAC of 220 mt is exceeded, or if excessive bycatch of cod, haddock and other species of concern (including, but not limited to, skates) occurs during any given trip.

A draft EA has been prepared that analyzes the impacts of the proposed experimental fishery on the human environment. This draft EA concludes that the proposed activities to be conducted under the requested EFPs are consistent with the goals and objectives of the FMP, would not be detrimental to the well-being of any stocks of fish harvested, and would have no significant environmental impacts. The draft EA also concludes that the proposed experimental fishery would not be detrimental to Essential Fish Habitat, marine mammals, or protected species.

EFPs would be issued to up to six vessels (four vessels plus two alternate vessels), exempting them from the DAS requirements and CA II restrictions of the FMP. Regulations under the Magnuson-Stevens Fishery Conservation and Management Act require publication of this notification to provide interested parties the opportunity to comment on applications for proposed EFPs.

Authority: 16 U.S.C. 1801 et seq.

Dated: July 22, 2003.
Bruce C. Morehead,
Acting Director, Office of Sustainable Fisheries, National Marine Fisheries Service.

[FR Doc. 03-19147 Filed 7-25-03; 8:45 am]

BILLING CODE 3510-22-S